RAILROAD RETIREMENT BOARD

Sunshine Act Meetings

TIME AND DATE: 10:00 a.m., April 8, 2025.

PLACE: Members of the public wishing to attend the meeting must submit a written request at least 24 hours prior to the meeting to receive dial-in information. All requests must be sent to SecretarytotheBoard@rrb.gov.

STATUS: This meeting will be open to the public.

MATTERS TO BE CONSIDERED: Legislative and Budget Update—Office of Legislative Affairs.

CONTACT PERSON FOR MORE INFORMATION: Stephanie Hillyard, Secretary to the Board, (312) 751-4920.

Authority: 5 U.S.C. 552b.

Dated: March 26, 2025.
Stephanie Hillyard,
Secretary to the Board.

[FR Doc. 2025-05532 Filed 3-27-25; 11:15 am]

BILLING CODE 7905-01-P